DEPARTMENT OF HEALTH AND HUMAN SERVICES

Food and Drug Administration

21 CFR Part 201

[Docket No. 02N-0241]

Amendment of Regulations on Aluminum in Large and Small Volume Parenterals Used in Total Parenteral Nutrition; Correction

AGENCY: Food and Drug Administration, HHS.

ACTION: Proposed rule; correction.

SUMMARY: The Food and Drug Administration (FDA) is correcting a proposed rule that appeared in the Federal Register of August 12, 2002 (67 FR 52429). The document proposed to amend FDA's regulations to change the labeling requirements concerning aluminum in small volume parenterals and pharmacy bulk packages used in total parenteral nutrition. The document was published with an inadvertent error. This document corrects that error.

DATES: Submit written or electronic comments by October 28, 2002.

ADDRESSES: Submit written comments to the Dockets Management Branch (HFA-305), Food and Drug Administration, 5630 Fishers Lane, rm. 1061, Rockville, MD 20852. Submit electronic comments at http://www.fda.gov/dockets/ecomments. All comments should be identified with the docket number found in brackets in the heading of this document.

FOR FURTHER INFORMATION CONTACT: Doris B. Tucker, Office of Policy, Planning, and Legislation (HF-27), Food and Drug Administration, 5600 Fishers Lane, Rockville, MD 20857, 301-827-7010.

SUPPLEMENTARY INFORMATION: In FR Doc. 02-20300, appearing on page 52429 in the Federal Register of Monday, August 12, 2002, the following correction is made:

1. On page 52429, in the third column, in the seventh line “§ 201.323©” is corrected to read “§ 201.3239(c)”.

Dated: August 15, 2002.
William K. Hubbard,
Senior Associate Commissioner for Policy, Planning, and Legislation.

[FR Doc. 02-21265 Filed 8-20-02; 8:45 am]

BILLING CODE 4160-01-S